DEPARTMENT OF THE INTERIOR

Bureau of Indian Affairs

[223A2100DD/AAKC001030/A0A501010.999900]

Land Acquisitions; Ho-Chunk Nation of Wisconsin, Keecak Site, City of Beloit, Rock County, Wisconsin

AGENCY: Bureau of Indian Affairs, Interior.

ACTION: Notice.

SUMMARY: The Assistant Secretary—Indian Affairs made a final agency determination to acquire in trust 32.06 acres, more or less, of land known as the Keecak Site in the City of Beloit, Rock County, Wisconsin, (Site) for the Ho-Chunk Nation of Wisconsin, (Tribe) for gaming and other purposes.

DATES: This final determination was made on May 12, 2022.

FOR FURTHER INFORMATION CONTACT: Ms. Paula L. Hart, Director, Office of Indian Gaming, Mailstop 3543, 1849 C Street NW, Washington, DC 20240, telephone (202) 219-4066, paula.hart@bia.gov.

SUPPLEMENTARY INFORMATION: On the date listed in the DATES section of this notice, the Assistant Secretary—Indian Affairs made a final agency determination to acquire the Site, consisting of 32.06 acres, more or less, in trust for the Tribe under the authority of the Indian Reorganization Act of June 18, 1934, 25 U.S.C. 5108.

The Assistant Secretary—Indian Affairs, on behalf of the Secretary of the Interior, will immediately acquire title to Site in the name of the United States of America in trust for Tribe upon fulfillment of all Departmental requirements. The 32.06 acres, more or less, are described as follows:

Legal Description of Property

Part of the Northwest Quarter (NW ¼) of Section Thirty-two (32), Township One (1) North, Range Thirteen (13) East of the Fourth Principal Meridian, in the City of Beloit, Rock County, Wisconsin, described as follows:

Commencing at a Rock County Aluminum Monument marking the West ¼ corner of said Section 32; thence South 89 deg. 18 min. 37 sec. East, along the South line of the NW ¼ of said section a distance of 264.00 feet to a ¾ inch Iron Rod marking the Southeast corner of Lot 2 of Certified Survey Map No. 1077681 as recorded in Volume 13, Pages 341-344, said rod also marks the point of beginning; thence leaving said Quarter Line, North 00 deg. 52 min. 18 sec. West along the East line of said Lot 2 and the extension thereof, 1368.78 feet to a Cotton Gin Spike in the centerline of Colley Road; thence North 88 deg. 54 min. 11 sec. East along the centerline of said road, 1312.7 feet, more or less, to a P.K. Nail on the extended West line of land conveyed by Warranty Deed dated September 21,1960 and recorded in Volume 560 on page 479; thence leaving said centerline, South 01 deg. 37 min. 40 sec. East 396.68 feet to the Southerly corner of said Warranty Deed and the Westerly right of way line of Interstate 90; thence South 37 deg. 33 mi. 08 sec. West along said Westerly right of way line, 1265.30 feet to a ¾ inch Iron Rod on the South line of said NW ¼ of said section; thence leaving said right of way line, North 89 deg. 18 min. 37 sec. West along said Quarter line, 524.90 feet to the point of beginning.

Excepting therefrom Parcel 1 of Transportation Project Plat No. 1003-10-22-4.01 recorded in TPP-128 of Transportation Project Plats as Doc. No. 2009518.

Authority: This notice is published in the exercise of authority delegated by the Secretary of the Interior to the Assistant Secretary—Indian Affairs by 209 Departmental Manual 8.1, and is published to comply with the requirements of 25 CFR 151.12 (c)(2)(ii) that notice of the decision to acquire land in trust be promptly provided in the Federal Register.

Bryan Newland,
Assistant Secretary—Indian Affairs.

[FR Doc. 2022-11368 Filed 5-25-22; 8:45 am]

BILLING CODE 4337-15-P